SECURITIES AND EXCHANGE COMMISSION

[Release No. 34-43634; File No. SR-DTC-00-15]

Self-Regulatory Organizations; The Depository Trust Company; Notice of Filing and Immediate Effectiveness of Proposed Rule Change Relating to DTAX Fees in Connection With Providing Internet

November 29, 2000.

Pursuant to Section 19(b)(1) of the Securities Exchange Act of 1934 (“Act”) ¹, notice is hereby given that on, November 2, 2000, The Depository Trust Company (“DTC”) filed with the Securities and Exchange Commission (“Commission”) the proposed rule change as described in Items I, II, and III below, which items have been prepared primarily by DTC. The Commission is publishing this notice to solicit comments on the proposed rule change from interested parties.

¹ 15 U.S.C. 78s(b)(1).

I. Self-Regulatory Organization's Statement of the Terms of Substance of the Proposed Rule Change

The proposed rule change will allow DTC to modify its current fees for its domestic tax reporting service (“DTAX”) in connection with providing Internet access to the DTAX information database.

II. Self-Regulatory Organization's Statement of the Purpose of, and Statutory Basis for, the Proposed Rule Change

In its filing with the Commission, DTC included statements concerning the purpose of and basis for the proposed rule change and discussed any comments it received on the proposed rule change. The text of these statements may be examined at the places specified in Item IV below. DTC has prepared summaries, set forth in sections (A), (B), and (C) below, of the most significant aspects of these statements.²

² The Commission has modified the text of the summaries prepared by DTC.

(A) Self-Regulatory Organization's Statement of the Purpose of, and Statutory Basis for, the Proposed Rule Change

The purpose of the proposed rule change is to revise current fees for DTAX ³ in connection with providing Internet access to the DTAX information database.

³ For a description of DTAX, refer to Securities Exchange Act Release No. 41105 (February 25, 1999), 64 FR 10523 (March 4, 1999) [File No. DTC-99-02].

DTAX is a data service containing tax information on distributions received with respect to domestic securities. It is available through DTC's PTS and CCF facilities and effective on or about December 1, 2000, will also be accessible over the Internet through DTC's website.

Annual subscription fees for DTAX accessed over the Internet will be as follows:

$4,999 Unlimited interactive inquiries and master file download of all available CUSIPs.

$999 Unlimited interactive inquiries.

Initially, DTAX will be available only to participants although usage may be expanded to include non-participant customers at a later date.⁴

⁴ Before expanding access to non-participants, DTC will file a proposed rule change under Section 19(b) of the Act.

The proposed rule change is consistent with the requirements Section 17A of the Act and the rules and regulations thereunder applicable to DTC because fees will be equitably allocated among users of DTC services.

(B) Self-Regulatory Organization's Statement on Burden on Competition

DTC perceives no impact on competition by reason of the proposed rule change.

(C) Self-Regulatory Organization's Statement on Comments on the Proposed Rule Change Received From Members, Participants or Others

Written comments from DTC participants or others have not been solicited or received on the proposed rule change.

III. Date of Effectiveness of the Proposed Rule Change and Timing for Commission Action

The foregoing rule change has become effective pursuant to Section 19(b)(3)(A)(ii) of the Act and Rule 19b-4(f)(2) thereunder, because the proposed rule change is changing a due, fee or other charge. At any time within 60 days of the filing of such proposed rule change, the Commission may summarily abrogate such rule change if it appears to the Commission that such action is necessary or appropriate in the public interest, for the protection of investors, or otherwise in furtherance of the purposes of the Act.

IV. Solicitation of Comments

Interested persons are invited to submit written data, views, and arguments concerning the foregoing, including whether the proposed rule change is consistent with the Act. Persons making written submissions should file six copies thereof with the Secretary, Securities and Exchange Commission, 450 Fifth Street, NW., Washington, DC 20549-0609. Copies of the submission, all subsequent amendments, all written statements with respect to the proposed rule change that are filed with the Commission, and all written communications relating to the proposed rule change between the Commission and any person, other than those that may be withheld from the public in accordance with the provisions of 5 U.S.C. 552, will be available for inspection and copying in the Commission's Public Reference Section, 450 Fifth Street, NW., Washington, DC 20549. Copies of such filing also will be available for inspection and copying at the principal office of DTC. All submissions should refer to File No. SR-DTC-00-15 and should be submitted by December 26, 2000.

For the Commission by the Division of Market Regulations, pursuant to delegated authority.
Margaret H. McFarland,
Deputy Secretary.

[FR Doc. 00-30878 Filed 12-04-00; 8:45 am]

BILLING CODE 8010-01-M